FEDERAL TRADE COMMISSION

Granting of Request for Early Termination of the Waiting Period Under the Premerger Notification Rules

Section 7A of the Clayton Act, 15 U.S.C. 18a, as added by Title II of the Hart-ScottRodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
April 1, 2012 thru April 30, 2012
04/02/2012
20120647 | G | SS&C Technologies Holdings, Inc.; GlobeOp Financial Services S.A.; SS&C Technologies Holdings, Inc.
20120651 | G | Sentinel Capital Partners IV, L.P.; Colson Trust; Sentinel Capital Partners IV, L.P.
20120652 | G | Pegasus Partners V, L.P.; John N. Kucera and Vianne L. Kucera; Pegasus Partners V, L.P.
20120658 | G | Oak Hill Capital Partners III, L.P.; Monitor Clipper Equity Partners II, L.P.; Oak Hill Capital Partners III, L.P.
20120668 | G | TIBCO Software, Inc.; LogLogic, Inc.; TIBCO Software, Inc.
04/04/2012
20120597 | G | Dover Corporation; Impresa Fund III, Limited Partnership; Dover Corporation.
20120661 | G | Summit Partners Private Equity Fund VII-A, L.P.; Audax Private Equity Fund II, L.P.; Summit Partners Private Equity Fund VH-A, L.P.
20120664 | G | Dell Inc.; Thoma Bravo Fund IX, L.P.; Dell Inc.
20120666 | G | Michael O. Johnson; Herbalife Ltd.; Michael O. Johnson.
20120670 | G | General Atlantic Partners 90, L.P.; C&J Energy Services, Inc.; General Atlantic Partners 90, L.P.
04/06/2012
20120640 | G | Oliver Holdings, Inc.; Mason Wells Buyout Fund II, Limited Partnership; Oliver Holdings, Inc.
20120667 | G | Temasek Holdings (Private) Limited; Amobee, Inc.; Temasek Holdings (Private) Limited.
20120675 | G | FIF HE Holdings LLC; Lehman Brothers Holdings Inc. Plan Trust; FIF HE Holdings LLC.
20120680 | G | JFE Holdings, Inc.; JFE Shoji Holdings, Inc.; JFE Holdings, Inc.
20120681 | G | The Williams Companies, Inc.; Caiman Energy, LLC; The Williams Companies, Inc.
20120683 | G | Insight Equity II LP; Flanders Corporation; Insight Equity II LP.
20120685 | G | On Assignment, Inc.; Apex Systems, Inc.; On Assignment, Inc.
20120687 | G | Guggenheim Baseball Management, L.P.; LA Holdco LLC; Guggenheim Baseball Management, L.P.
04/09/2012
20120691 | G | CCMP Capital Investors II, L.P.; Avenue Special Situations Fund V, L.P.; CCMP Capital Investors H, L.P.
20120695 | G | TorQuest Partners Fund II, L.P.; Brentwood Associates Private Equity III, L.P.; TorQuest Partners Fund II, L.P.
20120702 | G | VEPF IV MV II, L.P.; Misys plc; VEPF IV MV II, L.P.
20120704 | G | Court Square Capital Partners II, L.P.; Platte River Ventures I, L.P.; Court Square Capital Partners II, L.P.
04/10/2012
20120622 | G | UnitedHealth Group Incorporated; The Medica Group Preferred Holding Company; UnitedHealth Group Incorporated.
20120624 | G | Algonquin Power and Utilities Corp.; Gamesa Corporation Technologia S.A.; Algonquin Power and Utilities Corp.
20120689 | G | Marian Health System, Inc.; Michael B. Garrett; Marian Health System, Inc.
20120690 | G | Marian Health System, Inc.; Michael R. Prescott; Marian Health System, Inc.
20120694 | G | AmerisourceBergen Corporation; James R. Berger; AmerisourceBergen Corporation.
20120701 | G | Terra Firma Capital Partners III, L.P.; Terra-Gen Power Holdings, LLC; Terra Firma Capital Partners III, L.P.
04/13/2012
20120684 | G | EnPro Industries, Inc.; Precision Holding LLC; EnPro Industries, Inc.
20120707 | G | Covidien plc; superDimension Ltd.; Covidien plc.
20120710 | G | Justice Holdings Limited; 3G Special Situations Fund II, L.P.; Justice Holdings Limited.
20120711 | G | CIVC Partners Fund IV, L.P.; Clearview Capital Fund II L.P.; CIVC Partners Fund IV, L.P.
20120717 | G | Blackfriars Corp.; John L. Walter; Blackfriars Corp.
04/16/2012
20120669 | G | Warburg Pincus Private Equity IX, L.P.; Builders FirstSource, Inc.; Warburg Pincus Private Equity IX, L.P.
20120719 | G | Mr. Tarang Jain; Visteon Corporation; Mr. Tarang Jain.
20120724 | G | Fidelity National Financial, Inc.; Fidelity Newport Holdings, LLC; Fidelity National Financial, Inc.
04/17/2012
20120720 | G | JFL Equity Investors III, LP.; Cobham plc; JFL Equity Investors III, LP.
04/18/2012
20120654 | G | Baxter International, Inc.; SIGMA International General Medical Apparatus, LLC; Baxter International, Inc.
20120708 | G | Carl C. Icahn; CVR Energy, Inc.; Carl C. Icahn.
04/19/2012
20120712 | G | NEC Corporation; Convergys Corporation; NEC Corporation.
20120716 | G | Communications Infrastructure Investments, LLC; AboveNet, Inc.; Communications Infrastructure Investments, LLC.
04/20/2012
20120673 | G | National Oilwell Varco, Inc.; Larry Lindholm; National Oilwell Varco, Inc.
20120674 | G | National Oilwell Varco, Inc.; Mark Williamson; National Oilwell Varco, Inc.
20120688 | G | Vincent C. Smith; Quest Software, Inc.; Vincent C. Smith.
20120722 | G | Cerberus Institutional Partners V, L.P.; AT&T Inc.; Cerberus Institutional Partners V, L.P.
20120728 | G | AEA Investors Small Business Fund II LP; Dayton Parts Holdings, LLC; AEA Investors Small Business Fund II LP.
20120736 | G | Madison Dearborn Capital Partners V-A, L.P.; NEW Asurion Corporation; Madison Dearborn Capital Partners V-A, L.P.
20120737 | G | Madison Dearborn Capital Partners V-C, L.P.; NEW Asurion Corporation; Madison Dearborn Capital Partners V-C, L.P.
20120740 | G | Berkshire Fund VIII, L.P.; NEW Asurion Corporation; BerkshireFund VIII, L.P.
04/23/2012
20120678 | G | TPG Partners VI, L.P.; eBay Inc.; TPG Partners VI, L.P.
20120699 | G | WP Prism Inc.; ISTA Pharmaceuticals, Inc.; WP Prism Inc.
20120700 | G | Monitise plc; Clairmail, Inc.; Monitise plc.
20120703 | G | Wabash National Corporation; Walker Group Resources LLC; Wabash National Corporation.
20120744 | G | Oclaro, Inc.; Opnext, Inc.; Oclaro, Inc.
04/24/2012
20120682 | G | Covidien plc; Yasuhiko Sata; Covidien plc.
20120731 | G | Lear Corporation; GMI Holding Corporation; Lear Corporation.
20120746 | G | Penn Virginia Resources Partners, L.P.; Trevor D. Rees-Jones; Penn Virginia Resources Partners, L.P.
04/25/2012
20120615 | G | Marathon Petroleum Corporation; Stephanie E. White; Marathon Petroleum Corporation.
20120616 | G | Marathon Petroleum Corporation; Keith S. White; Marathon Petroleum Corporation.
20120677 | G | South Jersey Health System, Inc.; Underwood-Memorial Health Systems, Inc.; South Jersey Health System, Inc.
20120749 | G | Tyco Flow Control International Ltd.; Pentair, Inc.; Tyco Flow Control International Ltd.
04/26/2012
20120696 | G | Temple University Health System, Inc.; The American Oncologic Hospital; Temple University Health System, Inc.
20120730 | G | Blackbaud, Inc.; Convio, Inc.; Blackbaud, Inc.
20120755 | G | DaVita Inc.; Brenda Spira; DaVita Inc.
04/27/2012
20120706 | G | University of Rochester; F.F. Thompson Health System, Inc.; University of Rochester.
20120734 | G | Galaxie Corporation; Prospect Capital Corporation; Galaxie Corporation.
20120735 | G | Prospect Capital Corporation; Galaxie Corporation; Prospect Capital Corporation.
20120738 | G | Welsh, Carson, Anderson & Stowe XI. L.P.; NEW Asurion Corporation; Welsh, Carson, Anderson & Stowe XI, L.P.
20120745 | G | John D. Grier; Royal Dutch Shell plc; John D. Grier.
20120751 | G | SAP AG; Richard W. Padula; SAP AG.
20120753 | G | Merck & Co., Inc.; Endocyte, Inc.; Merck & Co., Inc.
20120759 | G | Gores Capital Partners III, L.P.; TE Connectivity Ltd.; Gores Capital Partners III, L.P.
04/30/2012
20120595 | G | ABB Ltd; Thomas & Betts Corporation; ABB Ltd.
20120760 | G | Steel Partners Holdings LP; Steel Excel Inc.; Steel Partners Holdings LP.
201200768 | G | Genstar Capital Partners VI, L.P.; eResearch Technology, Inc.; Genstar Capital Partners VI, L.P.

FOR FURTHER INFORMATION CONTACT:

Renee Chapman, Contact Representative,

Or

Theresa Kingsberry, Legal Assistant,

Federal Trade Commission, Premerger Notification Office, Bureau of Competition, Room H-303, Washington, DC 20580, (202) 326-3100.

By Direction of the Commission.
Donald S. Clark,
Secretary.

[FR Doc. 2012-11037 Filed 5-8-12; 8:45 am]

BILLING CODE 6750-01-M